DEPARTMENT OF EDUCATION

National Educational Research Policy and Priorities Board; Meeting

AGENCY: National Educational Research Policy and Priorities Board; Education.

ACTION: Notice of quarterly meeting.

SUMMARY: This notice sets forth the schedule and proposed agenda of a forthcoming meeting of the National Educational Research Policy and Priorities Board. This notice also describes the functions of the Board. Notice of this meeting is required under section 10(a)(2) of the Federal Advisory Committee Act. This document is intended to notify the public of their opportunity to attend. Individuals who will need accommodations for a disability in order to attend the meeting (i.e., interpreting services, assistive listening devices, materials in alternative format) should notify Mary Grace Lucier at (202) 219-2253 no later than January 22. We will attempt to meet requests after this date, but cannot guarantee availability of the requested accommodation. The meeting site is accessible to individuals with disabilities.

DATES: February 1, 2002.

TIME: 8:30 a.m. to 3 p.m.

LOCATION: Room 1505 C, Health Science Center, University of Texas-Houston, 7000 Fannin, Houston, TX 77030.

FOR FURTHER INFORMATION CONTACT: Mary Grace Lucier, Designated Federal Official, National Educational Research Policy and Priorities Board, 80 F St., NW., Washington, DC 20208-7564. Telephone: (202) 219-2253; fax: (202) 219-1528; e-mail: Mary.Grace.Lucier@ed.gov. Main telephone for Board office: (202) 208-0692.

SUPPLEMENTARY INFORMATION: The National Educational Research Policy and Priorities Board is authorized by section 921 of the Educational Research, Development, Dissemination, and Improvement Act of 1994. The Board works collaboratively with the Assistant Secretary for the Office of Educational Research and Improvement to forge a national consensus with respect to a long-term agenda for educational research, development, and dissemination, and to provide advice and assistance to the Assistant Secretary in administering the duties of the Office.

The agenda for February 1 will review how Federally-funded research informs the Texas Reading Initiative, after which Board committees will discuss their work plans for the remainder of the year. A final agenda will be available from the Board's office on January 22, and will be posted on the Board's Web site, http://www.ed.gov/offices/OERI/NERPPB/.

Records are kept of all Board proceedings and are available for public inspection at the office of the National Educational Research Policy and Priorities Board, 80 F St., NW., Washington, DC 20208-7564.

Dated: January 8, 2002.
Rafael Valdivieso,
Executive Director.

[FR Doc. 02-1309 Filed 1-17-02; 8:45 am]

BILLING CODE 4000-01-M